FEDERAL COMMUNICATIONS COMMISSION

47 CFR Part 73

[DA 00-1179; MM Docket No. 98-216; RM-9381]

Radio Broadcasting Services; Arnoldsburg, WV

AGENCY: Federal Communications Commission.

ACTION: Final rule.

SUMMARY: The Commission, at the request of Mountaineer Communications, allots Channel 264A at Arnoldsburg, West Virginia, as the community's first local aural transmission service. See 63 FR 68720, December 14, 1998. Channel 264A can be allotted in compliance with the Commission's minimum distance separation requirements with a site restriction of 3.9 kilometers (2.4 miles) northeast to avoid a short-spacing to the licensed for Station WJYP(FM), Channel 265A, South Charleston, West Virginia. The coordinates for Channel 264A are 38-49-00 North Latitude and 81-06-00 West Longitude.

DATES: Effective July 10, 2000. A filing window for Channel 264A at Arnoldsburg, West Virginia, will not be opened at this time. Instead, the issue of opening a filing window for this channel will be addressed by the Commission in a subsequent order.

FOR FURTHER INFORMATION CONTACT: Sharon P. McDonald, Mass Media Bureau, (202) 418-2180.

SUPPLEMENTARY INFORMATION: This is a synopsis of the Commission's Report and Order, MM Docket No. 98-216, adopted May 17, 2000, and released May 26, 2000. The full text of this Commission decision is available for inspection and copying during normal business hours in the FCC Reference Information Center (Room CY-A257), 445 12th Street, SW, Washington, DC. The complete text of this decision may also be purchased from the Commission's copy contractors, International Transcription Service, Inc., (202) 857-3800, 1231 20th Street, NW., Washington, DC 20036.

List of Subjects in 47 CFR Part 73

Radio broadcasting.

Part 73 of title 47 of the Code of Federal Regulations is amended as follows:

PART 73—[AMENDED]

1. The authority citation for part 73 continues to read as follows:

Authority: 47 U.S.C. 154, 303, 334, 336.

§ 73.202 [Amended]

2. Section 73.202(b), the Table of FM Allotments under West Virginia, is amended by adding Arnoldsburg, Channel 264A.

Federal Communications Commission.
John A. Karousos,
Chief, Allocations Branch, Policy and Rules Division, Mass Media Bureau.

[FR Doc. 00-14605 Filed 6-8-00; 8:45 am]

BILLING CODE 6712-01-P